DEPARTMENT OF HEALTH AND HUMAN SERVICES

Administration for Children and Families

Submission for OMB Review; Domestic Victims of Human Trafficking Program Data (OMB #0970-0542)

AGENCY: Office on Trafficking in Persons, Administration for Children and Families, Department of Health and Human Services.

ACTION: Request for public comments.

SUMMARY: The Office on Trafficking in Persons (OTIP), Administration for Children and Families (ACF), U.S. Department of Health and Human Services (HHS), is requesting renewal with revisions of an approved information collection: Domestic Victims of Human Trafficking (DVHT) Program Data (OMB #0970-0542; expiration date 3/31/2023).

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Trafficking Victims Protection Act of 2000 (TVPA), as amended, authorizes the HHS Secretary to expand benefits and services to victims of severe forms of trafficking in persons in the United States, without regard to their immigration status. The TVPA also authorizes HHS to establish and strengthen programs to assist United States citizens and lawful permanent residents who have experienced sex trafficking or severe forms of trafficking in persons (22 U.S.C. 7105(f)(1)). Acting under a delegation of authority from the Secretary of HHS, ACF awards cooperative agreements to organizations to establish a program to assist United States citizens and lawful permanent residents who have experienced human trafficking, the DVHT Program. The DVHT Program is inclusive of two distinct programs: the Domestic Victims of Human Trafficking Services and Outreach Program (DVHT-SO), and the Demonstration Grants to Strengthen the Response to Victims of Human Trafficking in Native Communities Program (VHT-NC). Through the DVHT Program, grant recipients provide comprehensive case management to domestic survivors of human trafficking in traditional case management and Native community settings.

OTIP proposes to continue to collect information to measure grant project performance, provide technical assistance to grant recipients, assess program outcomes, inform program evaluation, respond to congressional inquiries and mandated reports, and inform policy and program development that is responsive to the needs of victims.

The information collection captures information on participant demographics (e.g., age, gender identity, race/ethnicity), type of trafficking experienced (sex, labor, or both), types of services and benefits provided, along with aggregate information on outreach activities conducted, subrecipients enrolled, and the types of trainings provided to relevant audiences. Minor updates have been made to performance indicators under this collection in consultation with existing grant recipients and stakeholders, to reduce respondent burden and strengthen privacy and confidentiality. Specifically, to reduce burden and strengthen client privacy and confidentiality, the following DVHT client-level indicators have been removed: Type of Intake, Date of Birth, Services Requested at Intake, Benefits Requested at Intake, Trafficker Relationship to Victim, and Employment Status at Case Closure. To reduce respondent burden, additional outreach and subrecipient indicators have also been removed: Screening Tool Used During Outreach, Goal of Subrecipient Partnership, Type of Subrecipient Partnership; Services Provided by Subrecipient (In-House) and Services Provided by Subrecipient (by Referral) have been collapsed into one category: Services Provided By Subrecipient. A currently approved form under this collection, the DVHT Spending Form, was renamed to Categories of Assistance and categories of assistance on the Spending Form have been simplified to reduce reporting burden. This form was inadvertently not included on the Federal Register Notice inviting initial comments on this collection (87 FR 45107) but has been included for comment here and is included in the request to OMB.

Respondents: DVHT Program Grant Recipients and Clients of those programs, specifically DVHT-SO and VHT-NC funding recipients.

Annual Burden Estimates
Instrument | Total number of respondents | Total number of responses per respondent | Average burden hours per response | Total burden hours | Annual burden hours
Client Characteristics and Program Entry | 1,700 | 1 | 0.75 | 1,275 | 425
Client Case Closure | 1,700 | 1 | 0.167 | 283.9 | 94.6
Barriers to Service Delivery and Monitoring | 35 | 4 | 0.167 | 23.4 | 7.8
Client Service Use and Delivery | 1,700 | 1 | 0.25 | 425 | 141.7
Victim Outreach | 35 | 4 | 0.3 | 42 | 14
Training | 35 | 4 | 0.5 | 70 | 23.3
Subrecipient Enrollment | 35 | 3 | 0.167 | 17.5 | 5.8
Categories of Assistance | 35 | 1 | .75 | 26.25 | 8.75

Estimated Total Annual Burden Hours: 720.95.

Authority: 22 U.S.C. 7105.

Mary B. Jones,
ACF/OPRE Certifying Officer.

[FR Doc. 2022-22757 Filed 10-19-22; 8:45 am]

BILLING CODE 4184-47-P